DEPARTMENT OF THE INTERIOR

Bureau of Land Management

[NM-070-1430-AC]

Notice of Public Closure

AGENCY: Bureau of Land Management, Interior.

ACTION: Closure of public lands.

SUMMARY: Due to an ongoing criminal investigation and the necessity to protect the public resources the following lands in San Juan County, New Mexico are being closed to public access as per 43 CFR 8364.1 Closure and restriction orders. The public lands identified as: T29N, R12W, Sect. 17, NENE, NWNE, SENE, SWNE, NENW, SENW, NESE, SESE are closed to all persons except BP Amoco until further notice. BP Amoco's access is restricted to only that access for the maintenance and operation of well # GCU 581. All other activities and uses of the public lands are prohibited except by express permission of the Farmington Field Manager.

DATES: January 29, 2003, until further notice pending completion of the criminal investigation.

FOR FURTHER INFORMATION CONTACT: Steve Henke, Field Office Manager, 1235 La Plata Highway, Farmington, NM 87401, Telephone 505-599-8998.

Dated: January 29, 2003.
Timothy R. Spisak,
Acting State Director.

[FR Doc. 03-10440 Filed 4-28-03; 8:45 am]

BILLING CODE 4310-FB-P